DEPARTMENT OF TRANSPORTATION

Federal Aviation Administration

14 CFR Part 39

[Docket No. FAA-2009-0525; Directorate Identifier 2009-NM-027-AD; Amendment 39-16275; AD 2010-09-10]

RIN 2120-AA64

Airworthiness Directives; Bombardier, Inc. Model CL-600-2B19 (Regional Jet Series 100 & 440) Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

AD CF-2002-12 [which corresponds to FAA AD 2003-04-21, amendment 39-13070] mandated installation of revised overwing emergency exit placards showing that the exit door should be opened and disposed from a seated position. However, it was later discovered that the new placards illustrated an incorrect hand position for removal of the exit upper handle cover. These incorrect instructions could cause difficulty or delay when opening the overwing emergency exit.

As a result, the timely and safe evacuation of passengers and crew may be impeded. We are issuing this AD to require actions to correct the unsafe condition on these products.

DATES: This AD becomes effective June 3, 2010.

The Director of the Federal Register approved the incorporation by reference of a certain publication listed in this AD as of June 3, 2010.

On April 4, 2003 (68 FR 9509, February 28, 2003), the Director of the Federal Register approved the incorporation by reference of a certain other publication listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Christopher Alfano, Aerospace Engineer, Airframe and Mechanical Systems Branch, ANE-171, FAA, New York Aircraft Certification Office, 1600 Stewart Avenue, Suite 410, Westbury, New York 11590; telephone (516) 228-7340; fax (516) 794-5531.

SUPPLEMENTARY INFORMATION:

Discussion

We issued a supplemental notice of proposed rulemaking (NPRM) to amend 14 CFR part 39 to include an AD that would apply to the specified products. That supplemental NPRM was published in the Federal Register on December 23, 2009 (74 FR 68198), and proposed to supersede AD 2003-04-21, Amendment 39-13070 (68 FR 9509, February 28, 2003). That supplemental NPRM proposed to correct an unsafe condition for the specified products. The MCAI states:

AD CF-2002-12 [which corresponds to FAA AD 2003-04-21] mandated installation of revised overwing emergency exit placards showing that the exit door should be opened and disposed from a seated position. However, it was later discovered that the new placards illustrated an incorrect hand position for removal of the exit upper handle cover. These incorrect instructions could cause difficulty or delay when opening the overwing emergency exit.

As a result, the timely and safe evacuation of passengers and crew may be impeded. The required actions include replacing the incorrect placards with revised placards. You may obtain further information by examining the MCAI in the AD docket.

Comments

We gave the public the opportunity to participate in developing this AD. We considered the comment received from the only commenter.

Request To Refer to Updated Service Information

Air Wisconsin requests that we update the supplemental NPRM to refer to the most recent service information. Air Wisconsin notes that Bombardier Service Bulletin 601R-11-088, Revision A, dated March 24, 2009, has been revised. Bombardier has issued Service Bulletin 601R-11-088, Revision B, dated November 17, 2009.

We agree to refer to the latest service information. We have determined that the actions specified in the revised service bulletin are essentially identical to the actions specified in Bombardier Service Bulletin 601R-11-088, Revision A, dated March 24, 2009. We have revised paragraphs (h) and (k) of this AD to refer to Bombardier Service Bulletin 601R-11-088, Revision B, dated November 17, 2009. We have revised paragraph (i) of this AD to also give credit for actions done in accordance with Bombardier Service Bulletin 601R-11-088, Revision A, dated March 24, 2009.

Explanation of Change Made to This AD

We have revised this AD to identify the legal name of the manufacturer as published in the most recent type certificate data sheet for the affected airplane models.

Conclusion

We reviewed the relevant data, considered the comment received, and determined that air safety and the public interest require adopting the AD with the changes described previously. We also determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Explanation of Change to Costs of Compliance

After the supplemental NPRM was issued, we reviewed the figures we have used over the past several years to calculate AD costs to operators. To account for various inflationary costs in the airline industry, we find it necessary to increase the labor rate used in these calculations from $80 per work hour to $85 per work hour. The cost impact information, below, reflects this increase in the specified hourly labor rate.

Costs of Compliance

We estimate that this AD will affect 664 products of U.S. registry. We also estimate that it will take about 1 work-hour per product to comply with the basic requirements of this AD. The average labor rate is $85 per work-hour. Required parts will cost about $128 per product. Where the service information lists required parts costs that are covered under warranty, we have assumed that there will be no charge for these parts. As we do not control warranty coverage for affected parties, some parties may incur costs higher than estimated here. Based on these figures, we estimate the cost of this AD to the U.S. operators to be $141,432, or $213 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13070 (68 FR 9509, February 28, 2003) corrected at 68 FR 14309, March 25, 2003, and adding the following new AD:

2010-09-10 Bombardier, Inc.: Amendment 39-16275. Docket No. FAA-2009-0525; Directorate Identifier 2009-NM-027-AD.

Effective Date

(a) This airworthiness directive (AD) becomes effective June 3, 2010.

Affected ADs

(b) This AD supersedes AD 2003-04-21 R1, Amendment 39-13070.

Applicability

(c) This AD applies to Bombardier, Inc. Model CL-600-2B19 (Regional Jet Series 100 & 440) airplanes, certificated in any category, serial numbers 7003 and subsequent.

Subject

(d) Air Transport Association (ATA) of America Code 11: Placards and markings.

Reason

(e) The mandatory continuing airworthiness information (MCAI) states:

AD CF-2002-12 [which corresponds to FAA AD 2003-04-21, amendment 39-13070] mandated installation of revised overwing emergency exit placards showing that the exit door should be opened and disposed from a seated position. However, it was later discovered that the new placards illustrated an incorrect hand position for removal of the exit upper handle cover. These incorrect instructions could cause difficulty or delay when opening the overwing emergency exit.

As a result, the timely and safe evacuation of passengers and crew may be impeded. The required action includes replacing the incorrect placards with revised placards.

Restatement of Certain Requirements of AD 2003-04-21 R1

(f) Unless already done, for airplanes identified in Table 1 of this AD, within 12 months after April 4, 2003 (the effective date of AD 2003-04-21 R1), replace the door weight placards, and no-baggage placards with new placards (including cleaning of the applicable surface), as applicable, per Bombardier Alert Service Bulletin A601R-11-077, Revision A, dated December 11, 2001, excluding Service Bulletin Comment Sheet—Facsimile Reply Sheet and CRJ 100/200 Service Bulletin Compliance Facsimile Reply Sheet.

Table 1—Serial Nos.
Serial Nos.
7003 through 7434 inclusive.
7436 through 7442 inclusive.
7444 through 7452 inclusive.
7454 through 7458 inclusive.
7460 through 7497 inclusive.
7499 through 7504 inclusive.

(g) Replacement accomplished before April 4, 2003, per Bombardier Alert Service Bulletin A601R-11-077, dated July 12, 2001, is considered acceptable for compliance with the replacement specified in paragraph (f) of this AD.

New Requirements of This AD

Actions and Compliance

(h) Unless already done, within 24 months after the effective date of this AD, replace the existing overwing emergency exit placards with new placards in accordance with the Accomplishment Instructions of Bombardier Service Bulletin 601R-11-088, Revision B, dated November 17, 2009.

(i) Replacing the overwing emergency exit placards with new placards before the effective date of this AD in accordance with Bombardier Service Bulletin 601R-11-088, dated June 25, 2008; or Revision A, dated March 24, 2009; is considered acceptable for compliance with the corresponding action specified in this AD.

FAA AD Differences

Note 1: This AD differs from the MCAI and/or service information as follows: The MCAI applicability includes certain airplanes. This AD expands the applicability to include serial numbers 7003 and subsequent.

Other FAA AD Provisions

(j) The following provisions also apply to this AD:

(1) Alternative Methods of Compliance (AMOCs): The Manager, New York Aircraft Certification Office, FAA, has the authority to approve AMOCs for this AD, if requested using the procedures found in 14 CFR 39.19. Send information to ATTN: Program Manager, ANE-170, Continuing Operational Safety, FAA, New York ACO, 1600 Stewart Avenue, Suite 410, Westbury, New York, 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD. AMOCs approved previously in accordance with AD 2003-04-21, Amendment 39-13070, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501, et seq.), the Office of Management and Budget (OMB) has approved the information collection requirements and has assigned OMB Control Number 2120-0056.

Related Information

(k) Refer to MCAI Canadian Airworthiness Directive CF-2009-02, dated January 19, 2009; Bombardier Alert Service Bulletin A601R-11-077, Revision A, dated December 11, 2001; and Bombardier Service Bulletin 601R-11-088, Revision B, dated November 17, 2009; for related information.

Material Incorporated by Reference

(l) You must use Bombardier Service Bulletin 601R-11-088, Revision B, dated November 17, 2009; and Bombardier Alert Service Bulletin A601R-11-077, Revision A, dated December 11, 2001, excluding Service Bulletin Comment Sheet—Facsimile Reply Sheet and CRJ 100/200 Service Bulletin Facsimile Reply Sheet; as applicable; to do the actions required by this AD, unless the AD specifies otherwise.

(1) The Director of the Federal Register approved the incorporation by reference of Bombardier Service Bulletin A601R-11-088, Revision B, dated November 17, 2009, under 5 U.S.C. 552(a) and 1 CFR part 51.

(2) The Director of the Federal Register previously approved the incorporation by reference of Bombardier Alert Service Bulletin A601R-11-077, Revision A, dated December 11, 2001, excluding Service Bulletin Comment Sheet—Facsimile Reply Sheet and CRJ 100/200 Service Bulletin Compliance Facsimile Reply Sheet, on April 4, 2003 (68 FR 9509, February 28, 2003).

(3) For service information identified in this AD, contact Bombardier, Inc., 400 Côte Vertu Road West, Dorval, Québec H4S 1Y9, Canada; telephone 514-855-5000; fax 514-855-7401; e-mail thd.crj@aero.bombardier.com; Internet http://www.bombardier.com.

(4) You may review copies of the service information at the FAA, Transport Airplane Directorate, 1601 Lind Avenue SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington on April 16, 2010.
Ali Bahrami,
Manager, Transport Airplane Directorate, Aircraft Certification Service.

[FR Doc. 2010-9594 Filed 4-28-10; 8:45 am]

BILLING CODE 4910-13-P